DEPARTMENT OF DEFENSE

Department of the Army

Performance Review Boards Membership

AGENCY: Department of the Army, DoD.

ACTION: Notice.

SUMMARY: Notice is given of the names of members of a Performance Review Board for the Department of the Army.

EFFECTIVE DATE: November 6, 2002.

FOR FURTHER INFORMATION CONTACT: Marilyn Ervin, U.S. Army Senior Executive Service Office, Assistant Secretary of the Army, Manpower & Reserve Affairs, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

(a) The members of the Performance Review Board for the U.S. Army Acquisition Executives are:

1. BG Roger A. Nadeau, Program Executive Officer, Combat Support and Combat Service Support.

2. Mr. Donald L. Damstetter, Jr., Deputy Assistant Secretary of the Army for Plans and Program Resources.

3. Mr. Edward G. Elgart, Director, Communications-Electronics Command Acquisition Center.

(b) The members of the Performance Review Board for the U.S. Army Tank-automotive Command (TACOM), U.S. Army Materiel Command are:

1. Daniel G. Mehney, Deputy for Contracting and Acquisition, TACOM.

2. Thomas C. Boyle, Deputy for Commodity Business Operations, TACOM.

3. Sallie H. Flavin, Deputy Director, Defense Contract Management Agency.

4. John F. Hedderich, III, Associate Technology Director (Systems Concepts and Technology), Armament Research, Development and Engineering Center, TACOM.

5. Richard E. McClelland, Director of Tank-Automotive Research, Development and Engineering Center.

Luz D. Ortiz,
Army Federal Register Liaison Officer.

[FR Doc. 02-28905 Filed 11-13-02; 8:45 am]

BILLING CODE 3710-08-M